CORPORATION FOR NATIONAL AND COMMUNITY SERVICE

Information Collection; Submission for OMB Review, Comment Request

AGENCY: Corporation for National and Community Service.

ACTION: Notice.

SUMMARY: The Corporation for National and Community Service (hereinafter the “Corporation”) has submitted a public information collection request (ICR) entitled Interest Accrual Form, to the Office of Management and Budget (OMB) for review and approval in accordance with the Paperwork Reduction Act of 1995, Public Law 104-13 (44 U.S.C. Chapter 35). Copies of this ICR, with applicable supporting documentation, may be obtained by calling the Corporation for National and Community Service, Bruce Kellogg at 202-606-6954. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 27, 2008. This comment period ended May 25, 2008. No public comments were received from this notice.

Description: Currently, the Corporation is soliciting comments concerning the proposed renewal of its Interest Accrual Form. This form or its electronic equivalent is used by AmeriCorps members to request a payment of the interest accruing on qualified loans during the AmeriCorps member's term of service, if their loans were in forbearance during their service and if they successfully complete their terms of service. The form serves to give the member's permission to and directs the loan holder to release loan information to the Corporation so that the National Service Trust can make the interest payment. The form has a “Manual” version generated from the online request when the institution is not registered online, which provides the member's electronic signature. The non-electronic version provides a space for the member and the loan holder to sign.

Type of Review: Renewal.

Agency: Corporation for National and Community Service.

Title: Interest Accrual Form.

OMB Number: 3045-0053.

Agency Number: None.

Affected Public: Individuals who have completed a term of national service who wish the National Service Trust to pay certain interest accruing on qualified student loans.

Total Respondents: 4,000 responses annually, using the paper form.

Frequency: Some members do not have qualified student loans while others have several. Currently, over half of the interest payments are processed electronically. The Corporation expects the use of paper forms to decrease over the next few years.

Average Time Per Response: Total of 10 minutes (one minute for the AmeriCorps member's section (non-electronic version) and nine minutes for the loan holder).

Estimated Total Burden Hours: 667 hours.

Total Burden Cost (capital/startup): None.

Total Burden Cost (operating/maintenance): None.

Dated: June 11, 2008.
Maggie Taylor-Coates,
Manager (Acting), National Service Trust.

[FR Doc. E8-13866 Filed 6-18-08; 8:45 am]

BILLING CODE 6050-$$-P